BUREAU OF CONSUMER FINANCIAL PROTECTION

Publication of FY 2018 Service Contract Inventory

AGENCY: Bureau of Consumer Financial Protection.

ACTION: Notice of public availability of FY 2018 service contract inventory.

SUMMARY: In accordance with section 734 of Division C of the Consolidated Appropriations Act of 2010, the Bureau of Consumer Financial Protection (Bureau) is publishing this notice to advise the public of the availability of the FY 2018 service contract inventory. This inventory provides information on service contract actions over $25,000, which the Bureau funded during FY 2018. The information is organized by function to show how contracted resources were used by the agency to support its mission. The inventory has been developed in accordance with the guidance issued by the Office of Management and Budget's Office of Federal Procurement Policy (OFPP). The Bureau has posted its inventory on the Bureau's Open Government homepage at the following link: http://www.consumerfinance.gov/about-us/doing-business-with-us/past-awards/.

FOR FURTHER INFORMATION CONTACT: Nikki Burley, Senior Procurement Analyst, Office of Procurement, at 202-435-0329, or Nikki.Burley@cfpb.gov. If you require this document in an alternative electronic format, please contact CFPB_Accessibility@cfpb.gov.

Dated: July 30, 2021.
Jocelyn Sutton,
Deputy Chief of Staff, Bureau of Consumer Financial Protection.

[FR Doc. 2021-16634 Filed 8-3-21; 8:45 am]

BILLING CODE 4810-AM-P